FEDERAL ACCOUNTING STANDARDS ADVISORY BOARD

Notice of New Exposure Draft Opening Balances for Inventory, Operating Materials and Supplies (OM&S) and Stockpile Materials

AGENCY: Federal Accounting Standards Advisory Board.

Board Action: Pursuant to 31 U.S.C. 3511(d), the Federal Advisory Committee Act (Pub. L. 92-463), as amended, and the FASAB Rules Of Procedure, as amended in October, 2010, notice is hereby given that the Federal Accounting Standards Advisory Board (FASAB) has issued an Exposure draft, Opening Balances for Inventory, Operating Materials and Supplies (OM&S) and Stockpile Materials.

The Exposure Draft is available on the FASAB home page http://www.fasab.gov/exposure.html. Copies can be obtained by contacting FASAB at (202) 512-7350.

Respondents are encouraged to comment on any part of the exposure draft. Written comments are requested by July 20th, 2015, and should be sent to: Wendy M. Payne, Executive Director, Federal Accounting Standards Advisory Board, 441 G Street NW., Suite 6814, Mail Stop 6H19, Washington, DC 20548.

FOR FURTHER INFORMATION CONTACT: Wendy Payne, Executive Director, 441 G Street, NW., Washington, DC 20548, or call (202) 512-7350.

Authority: Federal Advisory Committee Act, Pub. L. 92-463.

Dated: June 3, 2015.
Charles Jackson,
Federal Register Liaison Officer.

[FR Doc. 2015-13934 Filed 6-5-15; 8:45 am]

BILLING CODE 1610-02-P